DEPARTMENT OF THE TREASURY

Agency Information Collection Activities; Submission for OMB Review; Comment Request; Rulings and Determination Letters

AGENCY: Departmental Offices, U.S. Department of the Treasury.

ACTION: Notice.

SUMMARY: The Department of the Treasury will submit the following information collection requests to the Office of Management and Budget (OMB) for review and clearance in accordance with the Paperwork Reduction Act of 1995 (PRA), on or after the date of publication of this notice. The public is invited to submit comments on these requests.

DATES: Comments must be received on or before April 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION: 1. Title: Rulings and determination letters.

OMB Control Number: 1545-1522.

Type of Review: Reinstatement with change of a previously approved collection.

Description: This revenue procedure explains how the Service provides advice to taxpayers on issues under the jurisdiction of the Associate Chief Counsel (Corporate), the Associate Chief Counsel (Employee Benefits, Exempt Organizations, and Employment Taxes), the Associate Chief Counsel (Financial Institutions and Products), the Associate Chief Counsel (Income Tax and Accounting), the Associate Chief Counsel (International), the Associate Chief Counsel (Passthroughs and Special Industries), and the Associate Chief Counsel (Procedure and Administration). It explains the forms of advice and the way advice is requested by taxpayers and provided by the Service.

Form Number: Rev. Proc. 2021-1 and Rev. Proc. 2022-10.

Affected Public: Individuals and households; Businesses or other for-profits.

Estimated Number of Respondents: 3,966.

Frequency of Response: On Occasion.

Estimated Total Number of Annual Responses: 3,966.

Estimated Time per Response: 79.88 hours.

Estimated Total Annual Burden Hours: 316,100 hours.

Authority: 44 U.S.C. 3501 et seq.

Dated: March 17, 2022.
Molly Stasko,
Treasury PRA Clearance Officer.

[FR Doc. 2022-06029 Filed 3-21-22; 8:45 am]

BILLING CODE 4830-01-P